DEPARTMENT OF HOUSING AND URBAN DEVELOPMENT

[Docket No. FR-4943-N-01]

Notice of Draft Report of the U.S. Department of Housing and Urban Development Review of the Fair Housing Accessibility Requirements in the 2003 International Building Code Accessibility Provisions and Solicitation of Comments

AGENCY: Office of the Assistant Secretary for Fair Housing and Equal Opportunity, HUD.

ACTION: Notice and solicitation of comments.

SUMMARY: The United States Department of Housing and Urban Development (HUD or the Department) announces a draft report of its review of the Fair Housing Act's accessibility requirements in the 2003 International Building Code.¹ The Department conducted this review in response to a request from the International Code Council (ICC). The draft report identifies the variances between the Fair Housing Act's design and construction requirements and the 2003 International Building Code.

¹ The 2003 International Building Code © is a copyrighted work owned by the International Code Council, Inc.

The draft report discusses only variances that may not meet the Fair Housing Act's design and construction requirements. As stated in the SUPPLEMENTARY INFORMATION section of this notice, the draft report is a precursor to a final report that HUD will publish in the Federal Register. After receipt and review of public comments, the Department will make its final revisions to the draft report and then issue the final report.

DATES: Comments Due Date: September 7, 2004.

Submission of Comments & Addresses: Interested persons are invited to submit comments regarding the issues discussed in this draft report. Written comments should be submitted to Surrell Silverman, Reports Liaison Officer, Office of Fair Housing and Equal Opportunity at 451 Seventh Street, SW., Room 5124, Washington, DC 20410-0500. Telephone number (202) 708-4150. Written comments must be submitted by close of business (6 p.m. EDT).

Location of Documents: The HUD draft report is located at [http://www.hud.gov/offices/fheo/disabilities/modelcodes/]. The Fair Housing Act, the Fair Housing Act regulations, and the Fair Housing Accessibility Guidelines can also be obtained through links provided at this Web site. The report is designed primarily to provide technical assistance in response to the request the Department received from ICC and thus, because the report is responding to code language, it may be using terms unfamiliar to the general public. The Department has arranged to have all of the source documents that the Department used in the analysis available to the public during the period of this request for public comments. The source documents that the Department reviewed are available at http://fairhousing.iccsafe.org/nt_2000. ICC has agreed to provide free of charge access to the chapters of the 2003 IBC that the Department reviewed. The 1998 edition of the American National Standards Institute (ANSI) A117.1 standard, “Accessible and Usable Buildings and Facilities,” is available for purchase at that Web address.

Copies of all the relevant documents are also available for viewing at the HUD Library at 451 Seventh St., SW., Washington, DC 20410. To gain admission to the HUD Library you must present identification to the security guards and ask to visit the library. Photocopying in the HUD library is limited to 40 pages. With the exception of the HUD draft report, all of the source documents are copyrighted and therefore not available for photocopying.

FOR FURTHER INFORMATION CONTACT: Cheryl Kent, Special Advisor for Disability Policy, Office of Fair Housing and Equal Opportunity, Department of Housing and Urban Development, 451 Seventh Street, SW., Room 5240, Washington, DC 20410-0500; telephone (202) 708-2333, extension 7058 (voice). (This is not a toll-free number). Hearing or speech-impaired individuals may access this number through TTY by calling the toll-free Federal Information Relay Service at 800-877-8399 (TTY).

SUPPLEMENTARY INFORMATION: Title VIII of the Civil Rights Act of 1968, as amended (commonly known as the Fair Housing Act), 42 U.S.C. 3601 et seq., makes it unlawful to discriminate in any aspect relating to the sale or rental of dwellings, in the availability of residential real estate-related transactions, or in the provision of services and facilities in connection therewith because of race, color, religion, sex, disability (handicap),² familial status, or national origin.

² The Fair Housing Act refers to people with “handicaps.” Subsequently, in the Americans with Disabilities Act of 1990 and other legislation. Congress adopted the term “persons with disabilities,” or “disability,” which is the preferred usage.

The Fair Housing Act (the Act) and the Department's implementing regulations provide that discrimination includes the failure to design and construct covered multifamily dwellings built for first occupancy after March 13, 1991 to include certain features of accessible and adaptable design. Covered multifamily dwellings are “buildings consisting of 4 or more units if such buildings have one or more elevators; and ground floor units in other buildings consisting of 4 or more units.” 42 U.S.C. 3604(f)(7). The Act's requirements apply irrespective of type of ownership, covering both rental and for sale units, as long as there are four or more units in the building. Covered multifamily dwellings must be designed and constructed so that: (1) The public and common use portions of such dwellings are readily accessible to and usable by persons with disabilities; (2) All the doors designed to allow passage into and within all premises within such dwellings are sufficiently wide to allow passage by disabled persons in wheelchairs; and (3) All premises within such dwellings contain the following features of adaptive design: (a) An accessible route into and through the dwelling; (b) Light switches, electrical outlets, thermostats, and other environmental controls in accessible locations; (c) Reinforcements in bathroom walls to allow later installation of grab bars; and (d) Usable kitchens and bathrooms such that an individual in a wheelchair can maneuver about the space. 42 U.S.C. 3604(f)(3)(C). These basic accessibility requirements are known as the Act's design and construction requirements.

The Act does not set forth specific technical design criteria that have to be followed in order to comply with the design and construction requirements. It does provide, however, that compliance with the appropriate requirements of the American National Standard Institute for Buildings and Facilities—Providing Accessibility and Usability for Physically Handicapped People, commonly referred to as ANSI A117.1, satisfies the Act's design and construction requirements for the interiors of dwelling units. 42 U.S.C. 3604(f)(4).

The Act states that Congress did not intend the Department to require states and units of local government to include the Act's accessibility requirements in their state and local procedures for the review and approval of newly constructed covered multifamily dwellings. 42 U.S.C. Sec. 3604(f)(5)(C). However, Congress authorized the Department to encourage the inclusion of these requirements into their state and local procedures. Id. In addition, Congress directed the Secretary of HUD to “provide technical assistance to states and units of local government and other persons to implement [the design and construction requirements].”

ICC requested that the Department determine whether the accessibility provisions of the 2003 International Building Code meet the accessibility requirements of the Act, the Department's regulations implementing the 1988 Amendments to the Act, and the Fair Housing Accessibility Guidelines (the Guidelines). The Department believes such reviews fall under its authority to provide technical assistance under the Act. The purpose of the Department's draft report is to present the results of and seek public comment on the Department's review of certain accessibility provisions of the 2003 International Building Code (“2003 IBC”), published by ICC.

The Department is not promulgating any new technical requirements or standards by way of this draft report. This draft report and the final report will serve solely to respond to ICC's request for technical assistance and to provide technical assistance to other interested parties. This request for comment on the draft report is not a solicitation for changes to the design and construction requirements of the Act, the Department's implementing regulations, or the Guidelines.

Prior to finalizing this report, the Department seeks public comment on the identification of variances and the recommendations contained in the draft report. Department staff have carefully reviewed and commented on the draft report and would like to hear from persons with disabilities, organizations representing persons with disabilities, code officials, home builders, and other interested parties prior to finalizing the report.

The draft report focuses only on the areas where the 2003 IBC does not meet the requirements of the Act, the Department's regulations implementing the Act, the Guidelines, or ICC/ANSI A117.1-1998. If a particular provision of a code is not discussed, then the reader should presume that the position of the Department is that the provision meets the requirements of the Act even if the wording of the code provision and the Act's requirements are not identical.

The Department will consider all comments received by close of business (6:00 p.m. EDT) on September 7, 2004 and will then publish its final report in the Federal Register.

Dated: July 30, 2004.
Carolyn Peoples,
Assistant Secretary for Fair Housing and Equal Opportunity.

[FR Doc. 04-17942 Filed 8-5-04; 8:45 am]

BILLING CODE 4210-28-P